DEPARTMENT OF ENERGY

Federal Energy Regulatory Commission

Combined Notice of Filings #1

Take notice that the Commission received the following exempt wholesale generator filings:

Docket Numbers: EG25-359-000.

Applicants: Tilden Solar, LLC.

Description: Tilden Solar, LLC submits Notice of Self-Certification of Exempt Wholesale Generator Status.

Filed Date: 6/25/25.

Accession Number: 20250625-5132.

Comment Date: 5 p.m. ET 7/16/25.

Take notice that the Commission received the following electric rate filings:

Docket Numbers: ER10-1586-011; ER10-1630-011.

Applicants: Wolf Hills Energy, LLC, Big Sandy Peaker Plant, LLC.

Description: Amendment to 06/30/2023, Triennial Market Power Analysis for Northeast Region of Big Sandy Peaker Plant, LLC, et al.

Filed Date: 6/23/25.

Accession Number: 20250623-5403.

Comment Date: 5 p.m. ET 7/14/25.

Docket Numbers: ER25-441-001.

Applicants: Richland Township Solar II, LLC.

Description: Notice of Non-Material Change in Status of Richland Township Solar II, LLC.

Filed Date: 6/24/25.

Accession Number: 20250624-5841.

Comment Date: 5 p.m. ET 7/15/25.

Docket Numbers: ER25-2609-000.

Applicants: Public Service Company of Colorado.

Description: § 205(d) Rate Filing: 2025-06-24—PSC-UPI-T-2024-15-SISA-883-0.0.0 to be effective 5/9/2025.

Filed Date: 6/24/25.

Accession Number: 20250624-5602.

Comment Date: 5 p.m. ET 7/15/25,

Docket Numbers: ER25-2610-000.

Applicants: Evergy Missouri West, Inc.

Description: § 205(d) Rate Filing: Wholesale Distribution Access Tariff Update Filing to be effective 6/25/2025.

Filed Date: 6/24/25.

Accession Number: 20250624-5618.

Comment Date: 5 p.m. ET 7/15/25.

Docket Numbers: ER25-2611-000.

Applicants: Rumble Solar, LLC.

Description: § 205(d) Rate Filing: Application for Market-Based Rate Authorization—Rumble Solar, LLC to be effective 8/24/2025.

Filed Date: 6/24/25.

Accession Number: 20250624-5657.

Comment Date: 5 p.m. ET 7/15/25.

Docket Numbers: ER25-2612-000.

Applicants: Rumble Energy Storage, LLC.

Description: § 205(d) Rate Filing: Application for Market-Based Rate Authorization—Rumble Energy Storage, LLC to be effective 8/24/2025.

Filed Date: 6/24/25.

Accession Number: 20250624-5668.

Comment Date: 5 p.m. ET 7/15/25.

Docket Numbers: ER25-2613-000.

Applicants: Buena Vista Energy Center III, LLC.

Description: § 205(d) Rate Filing: Application for Market-Based Rate Authorization—Buena Vista EC III, LLC to be effective 8/24/2025.

Filed Date: 6/24/25.

Accession Number: 20250624-5679.

Comment Date: 5 p.m. ET 7/15/25.

Docket Numbers: ER25-2614-000.

Applicants: PJM Interconnection, L.L.C.

Description: § 205(d) Rate Filing: Amendment to WMPA, Service Agreement No. 6760; Queue Position No. AF1-134 to be effective 8/25/2025.

Filed Date: 6/25/25.

Accession Number: 20250625-5034.

Comment Date: 5 p.m. ET 7/16/25.

Docket Numbers: ER25-2615-000.

Applicants: Midcontinent Independent System Operator, Inc.

Description: § 205(d) Rate Filing: 2025-06-25_SA 4504 Hoosier Energy Rural-Worthington Solar GIA (J1641) to be effective 8/25/2025.

Filed Date: 6/25/25.

Accession Number: 20250625-5035.

Comment Date: 5 p.m. ET 7/16/25.

Docket Numbers: ER25-2616-000.

Applicants: AEP Texas Inc.

Description: § 205(d) Rate Filing: AEPTX-Bobcat Energy Center (Leopard BESS) Generation Interconnection Agreement to be effective 6/9/2025.

Filed Date: 6/25/25.

Accession Number: 20250625-5047.

Comment Date: 5 p.m. ET 7/16/25.

Docket Numbers: ER25-2617-000.

Applicants: PJM Interconnection, L.L.C.

Description: § 205(d) Rate Filing: Amendment to ISA, Service Agreement No. 6517; Queue Position No. AE2-322 to be effective 8/25/2025.

Filed Date: 6/25/25.

Accession Number: 20250625-5051.

Comment Date: 5 p.m. ET 7/16/25.

Docket Numbers: ER25-2618-000.

Applicants: PJM Interconnection, L.L.C.

Description: § 205(d) Rate Filing: Amendment to ISA, Service Agreement No. 6445; Queue Position No. AE2-211/AF1-057 to be effective 8/25/2025.

Filed Date: 6/25/25.

Accession Number: 20250625-5069.

Comment Date: 5 p.m. ET 7/16/25.

Docket Numbers: ER25-2619-000.

Applicants: Southwest Power Pool, Inc.

Description: § 205(d) Rate Filing: 1978R15 Evergy Kansas Central, Inc. NITSA NOA—Toronto to be effective 9/1/2025.

Filed Date: 6/25/25.

Accession Number: 20250625-5070.

Comment Date: 5 p.m. ET 7/16/25.

Docket Numbers: ER25-2620-000.

Applicants: Southwest Power Pool, Inc.

Description: § 205(d) Rate Filing: 2066R15 Evergy Kansas Central, Inc. NITSA NOA—Muscotah to be effective 9/1/2025.

Filed Date: 6/25/25.

Accession Number: 20250625-5078.

Comment Date: 5 p.m. ET 7/16/25.

Docket Numbers: ER25-2621-000.

Applicants: Southwest Power Pool, Inc.

Description: § 205(d) Rate Filing: 2491R14 Evergy Kansas Central, Inc. NITSA NOA—Scranton to be effective 9/1/2025.

Filed Date: 6/25/25.

Accession Number: 20250625-5090.

Comment Date: 5 p.m. ET 7/16/25.

Docket Numbers: ER25-2622-000.

Applicants: New York State Electric & Gas Corporation.

Description: § 205(d) Rate Filing: Rate Schedule FERC No. 87 Supplement to be effective 9/1/2025.

Filed Date: 6/25/25.

Accession Number: 20250625-5091.

Comment Date: 5 p.m. ET 7/16/25.

Docket Numbers: ER25-2623-000.

Applicants: PPL Electric Utilities Corporation.

Description: Tariff Amendment: PPL submits Notice of Termination of SA No. 6263 to be effective 8/25/2025.

Filed Date: 6/25/25.

Accession Number: 20250625-5109.

Comment Date: 5 p.m. ET 7/16/25.

Docket Numbers: ER25-2624-000.

Applicants: Tri-State Generation and Transmission Association, Inc.

Description: § 205(d) Rate Filing: Initial Filing of Rate Schedule FERC No. 419 to be effective 8/25/2025.

Filed Date: 6/25/25.

Accession Number: 20250625-5133.

Comment Date: 5 p.m. ET 7/16/25.

Docket Numbers: ER25-2625-000.

Applicants: Sky Ranch Solar, LLC.

Description: § 205(d) Rate Filing: Filing of Shared Facilities Agreement to be effective 8/1/2025.

Filed Date: 6/25/25.

Accession Number: 20250625-5134.

Comment Date: 5 p.m. ET 7/16/25.

Take notice that the Commission received the following qualifying facility filings:

Docket Numbers: QF25-349-000.

Applicants: PG Solar LLC.

Description: Updated Refund Report of PG Solar LLC.

Filed Date: 6/24/25.

Accession Number: 20250624-5866.

Comment Date: 5 p.m. ET 7/15/25.

Docket Numbers: QF25-1045-000.

Applicants: Ergon—West Virginia, Inc.

Description: Form 556 of Ergon—West Virginia, Inc.

Filed Date: 6/24/25.

Accession Number: 20250624-5868.

Comment Date: 5 p.m. ET 7/15/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: June 25, 2025.
Carlos D. Clay,
Deputy Secretary.

[FR Doc. 2025-12020 Filed 6-27-25; 8:45 am]

BILLING CODE 6717-01-P